DEPARTMENT OF ENERGY

Federal Energy Regulatory Commission

[Docket No. CP15-12-000]

Columbia Gas Transmission, LLC; Notice of Request Under Blanket Authorization

Take notice that on November 4. 2014, Columbia Gas Transmission (Columbia), 5151 San Felipe, Suite 2500, Houston, Texas 77056, filed in the above Docket, a prior notice request pursuant to sections 157.205 and 157.208 of the Commission's regulations under the Natural Gas Act (NGA), and Columbia's authorization in Docket No. CP83-76-000 for authorization to abandon and construct certain facilities referred to collectively as the Broad Run Connector Project (Project), all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed Fredric J. George, Senior Counsel, Columbia Gas Transmission, LLC, P.O. Box 1273, Charleston, West Virginia 25325-1273, at (304) 357-2359.

Specifically, Columbia proposes to abandon by removal an existing natural gas-fired 3,000 horsepower (HP) reciprocating engine, and to construct an 8,000 HP electric motor driven compressor and appurtenant facilities. The proposed increase in capacity will enable Columbia to provide its customer up to 582,000 dekatherms of gas transportation per day. Columbia and its customer have agreed to a negotiated rate for the service to be rendered as a result of this expansion and have executed a Precedent Agreement confirming their agreement. Columbia proposes a rolled-in rate treatment for the Project. The estimated cost of the project is $29.7 million.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: November 14, 2014.
Kimberly D. Bose,
Secretary.

[FR Doc. 2014-27546 Filed 11-20-14; 8:45 am]

BILLING CODE 6717-01-P